OFFICE OF PERSONNEL MANAGEMENT

[RI 34-16]

Proposed Collection; Comment Request for Review of a New Information Collection

AGENCY: Office of Personnel Management.

ACTION: Notice.

SUMMARY: In accordance with the Paperwork Reduction Act of 1995 (Pub. L. 104-13, May 22, 1995), this notice announces that the Office of Personnel Management (OPM) intends to submit to the Office of Management and Budget a request for a new information collection. RI 34-16, Information for Individuals Who Have Received an Overpayment From the Civil Service Retirement and Disability Fund (CSRDF), will be used to submit a lump-sum payment to settle an overpayment from the CSRDF, request an installment repayment agreement, or request reconsideration, waiver or compromise.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who are to respond, through use of the appropriate technological collection techniques or other forms of information technology.

Approximately 1,000 RI 34-16 forms are completed per year. Each form will take approximately 1 hour to complete. The annual estimated burden will be 1,000 hours.

For copies of this proposal, contact Mary Beth Smith-Toomey on (202) 606-8358, or E-mail to mbtoomey@opm.gov.

DATES: Comments on this proposal should be received on or before May 26, 2000.

ADDRESSES: Send or deliver comments to—William J. Washington, Chief, Financial Management Division, Retirement and Insurance Service, U.S. Office of Personnel Management, 1900 E Street, NW, Room 3H19, Washington, DC 20415.

FOR INFORMATION REGARDING ADMINISTRATIVE COORDINATION— CONTACT: Phyllis R. Pinkney, Management Analyst, Budget & Administrative Services Division, (202) 606-0623.

Office of Personnel Management.
Janice R. Lachance,
Director.

[FR Doc. 00-7440 Filed 3-24-00; 8:45 am]

BILLING CODE 6325-01-U